DEPARTMENT OF LABOR

Office of the Secretary

Notice of Intent to Fund the International Labor Organization (ILO)

AGENCY: Bureau of International Labor Affairs, U.S. Department of Labor.

ACTION: Notice of Intent to award up to $10 million to the International Labor Organization (ILO) under cooperative agreement #E-9-K-4-0006.

SUMMARY: The U.S. Department of Labor (USDOL), Bureau of International Labor Affairs (ILAB), intends to fund up to U.S. $10 million under a new cooperative agreement #E-9-K-4-0006 with the International Labor Organization (ILO) for the International HIV/AIDS Workplace Education Program. The Conference Report for the FY2004 Labor-HHS-Education appropriation (Conference Report on H.R. 2673, Consolidated Appropriations Act, 2004—November 25, 2003) states that “In implementing this agreement, the Departments and agencies should be guided by the language and instructions set forth in House Report 108-188 and Senate Report 108-81 accompanying the bill H.R. 2660.” The Conference Report likewise states that: “The Conference agreement includes $10,000,000 for the purpose of assisting the International Labor Organization in implementing a program to confront HIV/AIDS in the workplace.” The activities that will be implemented with the additional funds will commence no later than September 30, 2004 and continue for a period of four years until September 26, 2008. USDOL/ILAB intends to award this cooperative agreement on or after September 6, 2004.

FOR FURTHER INFORMATION CONTACT: Lisa Harvey, Grant Officer. U.S. Department of Labor, Procurement Services Center, 200 Constitution Ave., NW., Room N-5416, Washington, DC 20210. Telephone: (202) 693-4570. E-mail address: harvey.lisa@dol.gov. All inquiries should make reference to the USDOL FY 2004 International HIV/AIDS Workplace Education Program.

SUPPLEMENTARY INFORMATION: The project funded will be a new cooperative agreement with the following three objectives:

• Education: to increase awareness and knowledge of HIV/AIDS by focusing on a comprehensive workplace education program(s) addressing behavior change, gender issues and linkages with care and support services.

• Policy: to improve workplace environment by assisting business and labor to develop appropriate workplace policy statements to address issues stemming from the stigma and discrimination associated with HIV/AIDS.

• Capacity: to develop the legislative framework, tripartite collaboration, and sustainability of the program by increasing the political will and capacity of social partners (government, business and labor) to respond to the epidemic.

Signed at Washington, DC, this 31st day of August, 2004.
Valerie Veatch,
Director, Procurement Services Center.

[FR Doc. 04-20312 Filed 9-7-04; 8:45 am]

BILLING CODE 4510-28-P